DEPARTMENT OF ENERGY

10 CFR Part 430

[Docket No. EE-RM/STD-01-350]

RIN 1904-AA78

Energy Conservation Program for Consumer Products: Energy Conservation Standards for Residential Furnaces and Boilers

AGENCY: Office of Energy Efficiency and Renewable Energy, Department of Energy.

ACTION: Final rule; technical amendment.

SUMMARY: This final rule clarifies the standards that are applicable to residential furnaces and boilers that were not subject to a final rule published by the Department of Energy on November 19, 2007. Additionally, today's final rule codifies in the Department's regulations the requirements that are applicable to residential boilers as established in the Energy Independence and Security Act of 2007.

DATES: This technical amendment is effective August 27, 2008.

FOR FURTHER INFORMATION CONTACT: Mohammed Khan, U.S. Department of Energy, Office of Energy Efficiency and Renewable Energy, Forrestal Building, EE-2J, 1000 Independence Avenue, SW., Washington, DC 20585-0121, (202) 586-7892, e-mail: Mohammed.Khan@ee.doe.gov; or Christopher Calamita, U.S. Department of Energy, Office of the General Counsel, Forrestal Building, GC-72, 1000 Independence Avenue, SW., Washington, DC 20585, (202) 586-7432, e-mail: Christopher.Calamita@hq.doe.gov.

SUPPLEMENTARY INFORMATION: On November 19, 2007, DOE published a final rule in which it amended the energy conservation standards for non-weatherized gas furnaces, weatherized gas furnaces, mobile home gas furnaces, oil-fired furnaces, gas-fired hot-water boilers, and oil-fired hot-water boilers. (72 FR 65136.) The November 19, 2007 final rule established a compliance date of November 19, 2015, for the amended standards.

In the notice of proposed rulemaking, DOE noted that gas steam boilers, oil-fired steam boilers, weatherized oil-fired furnaces, and mobile home oil-fired furnaces were not subject to the rulemaking. (71 FR 59204, 59214; October 6, 2006.) Standards applicable to gas steam boilers, oil-fired steam boilers, weatherized oil-fired furnaces, and mobile home oil-fired furnaces in effect prior to the November 19, 2007 final rule remained in effect following the November 19, 2007 final rule.

In the November 19, 2007 final rule, DOE amended the regulatory text that specifies the energy conservation standards for residential furnaces and boilers (10 CFR 430.32(e)) by adding a table containing amended standards applicable to non-weatherized gas furnaces, weatherized gas furnaces, mobile home gas furnaces, non-weatherized oil-fired furnaces, gas-fired hot-water boilers, and oil-fired hot-water boilers, manufactured on or after November 19, 2015. The regulatory text as amended by the November 19, 2007 final rule presented the required standards for residential furnaces and boilers in two tables. The first table presented the standards for all subject residential furnaces and boilers. The second table presented only the standards amended by the November 19, 2007 final rule, which as established, are applicable to the specified products that are manufactured on and after November 19, 2015. (72 FR 65169.)

Subsequently, on December 19, 2007, the Energy Independence and Security Act of 2007 (EISA 2007) was signed into law and included amended energy conservation standards and design requirements for residential boilers. (Pub. L. 110-140) Specifically, section 303 of EISA 2007 amended section 325(f)(3)(A)-(B) of the Energy Policy and Conservation Act (EPCA) to establish energy conservation standards and design requirements for gas-fired hot water boilers, gas-fired steam boilers, oil-fired hot water boilers, oil-fired steam boilers, and electric hot water boilers. (42 U.S.C. 6295(f)(3)(A)-(B)) EISA 2007 includes minimum annual fuel utilization efficiency (AFUE) requirements for gas-fired hot water and oil-fired hot water boilers, which supersede those established in the November 19, 2007, final rule. The minimum AFUE requirements for gas-fired hot water boilers are the same as those in the November 19, 2007, final rule.

The design requirements added by EISA 2007 prohibit constant burning pilot lights for gas-fired hot water boilers and gas-fired steam boilers and require an automatic means for adjusting the water temperature for gas-fired hot water boilers, oil-fired hot water boilers, and electric hot water boilers. Both the energy conservation standards and the design requirements for these five classes of residential boilers are applicable to residential boilers manufacturers on or after September 1, 2012. DOE notes this effective date supersedes the later effective date specified by the November 19, 2007 final rule.

In order to clarify the applicability of standards for residential furnaces and boilers following the November 19, 2007 final rule and EISA 2007, DOE is amending the regulatory text. Today's final rule presents the standards grouped by product (i.e., furnaces or boilers), and by compliance date. Today's final rule will allow manufacturers to reference an applicable standard by product and compliance date, and should make it easier for a manufacturer to determine the appropriate standard for a product. Today's final rule does not amend the standards applicable to residential furnaces and boilers as established in the November 19, 2007 final rule, except to the extent that standards were amended by EISA 2007.

Additionally, DOE notes that in the preamble of the November 19, 2007, final rule, DOE indicated that the Environmental Protection Agency (EPA) is mandating a phase-out of hydrofluorocarbon (HFC) refrigerants and hydrochlorofluorocarbon (HCFC) refrigerants. (72 FR 65149) This statement was in error. The EPA is mandating a phase-out of HCFC refrigerants, but not HFC refrigerants. (58 FR 65018; December 10, 1993) DOE realizes this inadvertent statement may have caused confusion within the industry. DOE notes that HFC refrigerants are the choice of the residential air conditioning industry to replace HCFC refrigerants that will be phased out.¹ This error did not impact the final analyses relied on in establishing the standards for the final rule.

¹ See, Acceptable Substitutes in Household and Light Commercial Air Conditioning, The U.S. Environmental Protection Agency. http://www.epa.gov/ozone/snap/refrigerants/lists/homeac.html.

DOE has determined, pursuant to 5 U.S.C. 553(b)(B), that prior notice and an opportunity for public comment on this final rule are unnecessary. The reorganization of the tables in the CFR is not a substantive change, and the public would have no particular interest in providing comments. In addition, codification of standards for certain residential boilers established in law by EISA involves no exercise of discretion or interpretation by DOE for the public to comment upon. DOE, therefore, finds that good cause exists to waive prior notice and an opportunity to comment for this rulemaking. In addition, because there is no requirement for publication of a notice of proposed rulemaking, the analytical provisions of the Regulatory Flexibility Act, 5 U.S.C. 601 et seq., do not apply to this rulemaking.

List of Subjects in 10 CFR Part 430

Administrative practice and procedure, Energy conservation, Household appliances.

Issued in Washington, DC, on July 15, 2008.
Alexander A. Karsner,
Assistant Secretary, Energy Efficiency and Renewable Energy.

For the reasons set forth in the preamble, part 430 of Title 10, Code of Federal Regulations, is amended to read as follows:

PART 430—ENERGY CONSERVATION PROGRAM FOR CONSUMER PRODUCTS

1. The authority citation for part 430 continues to read as follows:

Authority: 42 U.S.C. 6291-6309; 28 U.S.C. 2461 note.

2. Section 430.32 is amended by revising paragraph (e) to read as follows:

§ 430.32 Energy and water conservation standards and their effective dates.

* * * * *

(e) Furnaces and boilers. (1) Furnaces. (i) The Annual Fuel Utilization Efficiency (AFUE) of residential furnaces manufactured before November 19, 2015, shall not be less than the following:

Product class | AFUE ¹ (percent)
(A) Furnaces (excluding classes noted below) | 78
(B) Mobile Home furnaces | 75
(C) Small furnaces (other than those designed solely for installation in mobile homes) having an input rate of less than 45,000 Btu/hr
(1) Weatherized (outdoor) | 78
(2) Non-weatherized (indoor) | 78
¹ Annual Fuel Utilization Efficiency, as determined in § 430.23(n)(2) of this part.

(ii) The AFUE of residential furnaces manufactured on or after November 19, 2015, shall not be less than the following:

Product class | AFUE ¹ (percent)
(A) Non-weatherized gas furnaces | 80
(B) Weatherized gas furnaces | 81
(C) Mobile home oil-fired furnaces | 75
(D) Mobile home gas furnaces | 80
(E) Non-weatherized oil-fired furnaces | 82
(F) Weatherized oil-fired furnaces | 78
¹ Annual Fuel Utilization Efficiency, as determined in § 430.23(n)(2) of this part.

(2) Boilers. (i) The AFUE of residential boilers manufactured before September 1, 2012, shall not be less than the following:

Product class | AFUE ¹ (percent)
(A) Boilers (excluding gas steam) | 80
(B) Gas steam boilers | 75
¹ Annual Fuel Utilization Efficiency, as determined in § 430.22(n)(2) of this part.

(ii) Except as provided in paragraph (e)(2)(iv) of this section, the AFUE of residential boilers, manufactured on or after September 1, 2012, shall not be less than the following and must comply with the design requirements as follows:

Product class | AFUE ¹ (percent) | Design requirements
(A) Gas-fired hot water boiler | 82 | Constant burning pilot not permitted. Automatic means for adjusting water temperature required (except for boilers equipped with tankless domestic water heating coils).
(B) Gas-fired steam boiler | 80 | Constant burning pilot not permitted.
(C) Oil-fired hot water boiler | 84 | Automatic means for adjusting temperature required (except for boilers equipped with tankless domestic water heating coils).
(D) Oil-fired steam boiler | 82 | None.
(E) Electric hot water boiler | None | Automatic means for adjusting temperature required (except for boilers equipped with tankless domestic water heating coils).
¹ Annual Fuel Utilization Efficiency, as determined in § 430.22(n)(2) of this part.

(iii) Automatic means for adjusting water temperature. (A) The automatic means for adjusting water temperature as required under paragraph (e)(2)(ii) of this section must automatically adjust the temperature of the water supplied by the boiler to ensure that an incremental change in inferred heat load produces a corresponding incremental change in the temperature of water supplied.

(B) For boilers that fire at a single input rate, the automatic means for adjusting water temperature requirement may be satisfied by providing an automatic means that allows the burner or heating element to fire only when the means has determined that the inferred heat load cannot be met by the residual heat of the water in the system.

(C) When there is no inferred heat load with respect to a hot water boiler, the automatic means described in this paragraph shall limit the temperature of the water in the boiler to not more than 140 degrees Fahrenheit.

(D) A boiler for which an automatic means for adjusting water temperature is required shall be operable only when the automatic means is installed.

(iv) A boiler that is manufactured to operate without any need for electricity or any electric connection, electric gauges, electric pumps, electric wires, or electric devices is not required to meet the AFUE or design requirements applicable to the boiler requirements of paragraph (e)(2)(ii) of this section, but must meet the requirements of paragraph (e)(2)(i) of this section, as applicable.

* * * * *

[FR Doc. E8-17222 Filed 7-25-08; 8:45 am]

BILLING CODE 6450-01-P